DEPARTMENT OF HEALTH AND HUMAN SERVICES

Centers for Disease Control and Prevention

National Center for Environmental Health/Agency for Toxic Substances and Disease Registry; Scientific Counselors Board; Teleconference; Notice of Meeting

ACTION: The Program Peer Review Subcommittee of the Board of Scientific Counselors (BSC), National Center for Environmental Health (NCEH)/Agency for Toxic Substances and Disease Registry (ATSDR): Teleconference.

In accordance with section 10(a)(2) of the Federal Advisory Committee Act (Pub. L. 92-463), NCEH/ATSDR announces the following subcommittee meeting:

Name: Program Peer Review Subcommittee (PPRS).

Time and Date: 12:30 p.m.-3 p.m., eastern standard time, February 14, 2005.

Place: The teleconference will originate at the National Center for Environmental Health/Agency for Toxic Substances and Disease Registry in Atlanta, Georgia. Please see SUPPLEMENTARY INFORMATION for details on accessing the teleconference.

Status: Open to the public, teleconference access limited only by availability of telephone ports.

Purpose: Under the charge of the Board of Scientific counselors (BSC), NCEH/ATSDR the Program Peer Review Subcommittee establishes and monitors working groups of technical experts that perform program peer reviews of National Center for Environmental Health and the Agency for Toxic Substances and Disease Registry. The Subcommittee, working with the NCEH/ATSDR, Office of Science (OS), will establish a schedule and process for program peer reviews, nominate working group members, review summary reports and recommendations, and report back to the BSC. The OS will establish agency policy for program peer review and directly support each working group by collating program documents, and organizing the working groups review and site visit. Each NCEH/ATSDR program eligible for review will be reviewed every 5 years according to CDC/ATSDR policy.

Matters to be Discussed: The teleconference agenda will include a review of action items from the previous meeting, discussion and updates on the program peer review process and an update on the Hazards Substances Emergency Events Surveillance System.

SUPPLEMENTARY INFORMATION: This conference call is scheduled to begin at 12:30 p.m. eastern standard time. To participate in the teleconference, please dial (877) 315-6535 and enter conference code 383520.

FOR FURTHER INFORMATION CONTACT: Drue Barrett, Ph.D., Executive Secretary, PRRS, NCEH/ATSDR, M/S E-28, 1600 Clifton Road, NE., Atlanta, Georgia 30333, telephone (404) 498-0003.

The Director, Management Analysis and Services Office, has been delegated the authority to sign Federal Register notices pertaining to announcements of meetings and other committee management activities for both CDC and the Agency for Toxic Substances and Disease Registry.

Dated: January 10, 2005.
Alvin Hall,
Director, Management Analysis and Services Office, Centers for Disease Control and Prevention.

[FR Doc. 05-782 Filed 1-13-05; 8:45 am]

BILLING CODE 4163-70-P